DEPARTMENT OF AGRICULTURE

Forest Service

South Mt. Baker-Snoqualmie Resource Advisory Committee (RAC)

AGENCY: Forest Service, USDA.

ACTION: Notice of meetings.

SUMMARY: The South Mt. Baker-Snoqualmie Resource Advisory Committee (RAC) will meet Thursday, April 17, 2003 in the Forest Supervisor's Office of the Mt. Baker-Snoqualmie National Forest, 21905 64th Avenue West, Mountlake Terrace, WA 98043. The meeting, which is scheduled from 9 a.m. until 12 noon, will involve participation of some advisory committee members by conference telephone. Agenda items to be covered during the meeting: (1) Discussion and agreement on a committee process for 2004 Title II project review and prioritization and (2) identification of a May meeting date for 2004 Title II project evaluation.

All South Mt. Baker-Snoqualmie Resource Advisory Committee meetings are open to the public. Interested citizens are encouraged to attend.

The South Mt. Baker-Snoqualmie Resource Advisory Committee advises King and Pierce Counties on projects, reviews project proposals, and makes recommendations to the Forest Supervisor for projects to be funded by Title II dollars. The South Mt. Baker-Snoqualmie Resource Advisory Committee was established to carry out the requirements of the Secure Rural Schools and Community Self-Determination Act of 2000.

FOR FURTHER INFORMATION CONTACT: Direct questions regarding this meeting to Penny Sundblad, Management Specialist, USDA Forest Service, Mt. Baker-Snoqualmie National Forest, 810 State Route 20, Sedro Woolley, Washington 98284 (360-856-5700, Extension 321).

Dated: March 25, 2003.
John Phipps,
Designated Federal Official.

[FR Doc. 03-7594 Filed 3-28-03; 8:45 am]

BILLING CODE 3410-11-M